DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection package requests a three-year extension of “Industrial Relations,” OMB Control Number 1910-0600. This proposed collection covers major Department contractor Human Resource information necessary for contract management, administration, and cost control.

DATES: Comments regarding this collection must be received on or before January 23, 2012. If you anticipate that you will be submitting comments, but find it difficult to do so within the period of time allowed by this notice, please advise the OMB Desk Officer of your intention to make a submission as soon as possible. The Desk Officer may be telephoned at (202) 395-4650.

ADDRESSES: Written comments should be sent to the

DOE Desk Officer, Office of Information and Regulatory Affairs, Office of Management and Budget, New Executive Office Building, Room 10102, 735 17th Street, NW., Washington, DC 20503; and to

Robert M. Myers, U.S. Department of Energy, 1000 Independence Avenue SW., Washington, DC 20585-1615, 202-287-1584, or by fax at (202) 287-1349, or by email at robert.myers@hq.doe.gov.

FOR FURTHER INFORMATION CONTACT: Requests for additional information or copies of the information collection instrument and instructions should be directed to Robert Myers at the address listed above.

SUPPLEMENTARY INFORMATION: This information collection request contains:

(1) OMB No. 1910-0600;

(2) Information Collection Request Title: Industrial Relations;

(3) Type of Request: Renewal;

(4) Purpose: This information is required for management oversight of the Department of Energy's Facilities Management Contractors and to ensure that the programmatic and administrative management requirements of the contract are managed efficiently and effectively;

(5) Annual Estimated Number of Respondents: 303;

(6) Annual Estimated Number of Total Responses: 303;

(7) Annual Estimated Number of Burden Hours: 6,437;

(8) Annual Estimated Reporting and Recordkeeping Cost Burden: $0.

Authority: 42 U.S.C. 7256; 48 CFR 970.0370-1.

Issued in Washington, DC, on December 16, 2011.
Patrick M. Ferraro,
Acting Director, Office of Procurement and Assistance Management (OPAM).

[FR Doc. 2011-32806 Filed 12-21-11; 8:45 am]

BILLING CODE 6450-01-P